ENVIRONMENTAL PROTECTION AGENCY

[FRL-7424-5]

Clean Water Act Section 303(d): Availability of 1 Total Maximum Daily Load (TMDL)

AGENCY: Environmental Protection Agency (EPA).

ACTION: Notice of availability.

SUMMARY: This notice announces the availability for comment of the administrative record file for 1 TMDL and the calculations for this TMDL prepared by EPA Region 6 for waters listed in the Ouachita river basin, under section 303(d) of the Clean Water Act (CWA). This TMDL was completed in response to a court order in the lawsuit styled Sierra Club, et al. v. Clifford et al., No. 96-0527, (E.D. La.).

DATES: Comments must be submitted in writing to EPA on or before January 21, 2003.

ADDRESSES: Comments on the 1 TMDL should be sent to Ellen Caldwell, Environmental Protection Specialist, Water Quality Protection Division, U.S. Environmental Protection Agency Region 6, 1445 Ross Ave., Dallas, TX 75202-2733. For further information, contact Ellen Caldwell at (214) 665-7513. The administrative record file for the 1 TMDL is available for public inspection at this address as well. Documents from the administrative record file may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the United States Environmental Protection Agency (EPA), styled Sierra Club, et al. v. Clifford et al., No. 96-0527, (E.D. La.). Among other claims, plaintiffs alleged that EPA failed to establish Louisiana TMDLs in a timely manner.

EPA Seeks Comment on 1 TMDL

By this notice EPA is seeking comment on the following 1 TMDL for waters located within the Ouachita river basin:

Subsegment | Waterbody name | Pollutant
081602 (and associated subsegments) | Little River—From Bear Creek to Catahoula Lake (Scenic) | Mercury in fish tissue.

EPA requests that the public provide any water quality related data and information that may be relevant to the calculations for 1 TMDL. EPA will review all data and information submitted during the public comment period and revise the TMDL where appropriate. EPA will then forward the TMDL to the Louisiana Department of Environmental Quality (LDEQ). The LDEQ will incorporate the TMDL into its current water quality management plan.

Dated: December 12, 2002.
Miguel I. Flores,
Director, Water Quality Protection Division, Region 6.

[FR Doc. 02-31976 Filed 12-19-02; 8:45 am]

BILLING CODE 6560-50-P